DEPARTMENT OF DEFENSE

Office of the Secretary

Base Closure and Realignment

AGENCY: Department of Defense, Office of Economic Adjustment.

ACTION: Notice.

SUMMARY: This Notice is provided pursuant to section 2905(b)(7)(B)(ii) of the Defense Base Closure and Realignment Act of 1990. It provides a partial list of military installations closing or realigning pursuant to the 1993 Defense Base Closure and Realignment (BRAC) Report. It also provides a corresponding listing of the Local Redevelopment Authorities (LRAs) recognized by the Secretary of Defense, acting through the Department of Defense Office of Economic Adjustment (OEA), as well as the points of contact, addresses, and telephone numbers for the LRAs for those installations. Representatives of state and local governments, homeless providers, and other parties interested in the redevelopment of an installation should contact the person or organization listed. The following information will also be published simultaneously in a newspaper of general circulation in the area of each installation. There will be additional Notices providing this same information about LRAs for other closing or realigning installations where surplus government property is available as those LRAs are recognized by the OEA.

DATES: Effective Date: October 4, 2007.

FOR FURTHER INFORMATION CONTACT: Director, Office of Economic Adjustment, Office of the Secretary of Defense, 400 Army Navy Drive, Suite 200, Arlington, VA 22202-4704, (703) 604-6020.

Local Redevelopment Authorities (LRAs) for Closing and Realigning Military Installations

California

Installation Name: Former Naval Air Station Alameda “North Housing” Parcel.

LRA Name: Alameda Reuse and Redevelopment Authority.

Point of Contact: Debbie Potter, Base Reuse and Community Development Manager, Development Services Department, City of Alameda.

Address: 950 West Mall Square, Suite 215, Alameda, CA 94501-7552.

Phone: (510) 749-5833.

Dated: September 28, 2007.
L.M. Bynum,
OSD Federal Register Liaison Officer, Department of Defense.

[FR Doc. 07-4912 Filed 10-3-07; 8:45 am]

BILLING CODE 5001-06-M